DEPARTMENT OF ENERGY

Federal Energy Regulatory Commission

[Docket No. RP00-553-002]

Transcontinental Gas Pipe Line Corporation; Notice of Compliance Filing

December 1, 2000.

Take notice that on November 22, 2000, Transcontinental Gas Pipe Line Corporation (Transco) tendered for filing as part of its FERC Gas Tariff, Second Revised Volume No. 1, certain pro forma revised tariff sheets to comply with the Commission's Order issued on October 27, 2000 in Docket Nos. RM96-1-14 and RP00-553-000.

Transco states that the purpose of the instant filing is to comply with the Commission's October 27 Order in the referenced dockets to file tariff sheets within 30 days of the order describing how imbalance netting and trading will be performed on the Transco system when such trading becomes operational. Transco anticipates that it will propose to implement, among other things, imbalance netting and trading when it files to revise its tariff to reflect its new, state of the art, internet-based, service delivery computer system, 1Linesm. This new computer system will replace Transco's current computer system and therefore, the pro forma tariff sheets and explanation of Transco's proposed imbalance netting and trading service contained herein necessarily include related tariff changes that Transco will propose as part of its complete service delivery tariff filing.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31134 Filed 12-6-00; 8:45 am]

BILLING CODE 6717-01-M